DEPARTMENT OF HOMELAND SECURITY

Coast Guard

[Docket No. USCG-2025-0041]

National Offshore Safety Advisory Committee; Vacancy

AGENCY: U.S. Coast Guard, Department of Homeland Security.

ACTION: Notice; request for applications.

SUMMARY: The Coast Guard is re-soliciting applications from persons interested in membership on the National Offshore Safety Advisory Committee (Committee) to fill a vacant position representing entities engaged in offshore oil exploration and production on the Outer Continental Shelf adjacent to Alaska. The Committee advises the Secretary of the Department of Homeland Security on matters relating to activities directly involved with, or in support of, the exploration of offshore mineral and energy resources, to the extent that such matters are within the jurisdiction of the U.S. Coast Guard.

DATES: Complete applications must reach the Coast Guard on or before February 18, 2025.

ADDRESSES: Applications must include (a) a cover letter expressing interest in an appointment to the Committee and detailing their qualifications to serve as representative in entities engaged in offshore oil exploration and production on the Outer Continental Shelf adjacent to Alaska, (b) a resume detailing the applicant's relevant experience for the position applied for, and (c) a brief 2-3 paragraph biography written in third-person perspective. Applications should be submitted via email with the subject line “Application for NOSAC” to Justin.P.Goff@uscg.mil.

FOR FURTHER INFORMATION CONTACT: Lieutenant Justin Goff, Alternate Designated Federal Officer of the National Offshore Safety Advisory Committee; Telephone (571) 610-0130; or email at Justin.P.Goff@uscg.mil.

SUPPLEMENTARY INFORMATION: On February 20, 2024, the Coast Guard published a request in the Federal Register (89 FR 12853) soliciting applications for membership in the National Offshore Safety Advisory Committee. The U.S. Coast Guard is re-soliciting applications from persons interested in membership on the National Offshore Safety Advisory Committee to represent entities engaged in offshore oil exploration and production on the Outer Continental Shelf adjacent to Alaska. Applicants who responded to the previous notices do not need to reapply.

The National Offshore Safety Advisory Committee is a Federal advisory committee. The Committee operates under the provisions of the Federal Advisory Committee Act, 5 U.S.C. ch. 10 and 46 U.S.C. 15109. The Committee was established on December 4, 2018, by sec. 601 of the Frank LoBiondo Coast Guard Authorization Act of 2018, Public Law 115-282, 132 Stat. 4192 and amended by sec. 8331 of the Elijah E. Cummings Coast Guard Authorization Act of 2020, Public Law 116-283, and is codified in 46 U.S.C. 15106.

The Committee will advise the Secretary of Homeland Security on matters relating to activities directly involved with, or in support of, the exploration of offshore mineral and energy resources, to the extent that such matters are within the jurisdiction of the U.S. Coast Guard.

The Committee is required to meet at least once a year in accordance with 46 U.S.C. 15109(a). We expect the Committee to meet at least twice a year, but it may meet more frequently. The meetings are generally held in cities that have high concentrations of maritime personnel and related marine industry businesses.

All members serve at their own expense and receive no salary or other compensation from the Federal Government.

Under the provisions in 46 U.S.C. 15109(f)(6), if you are appointed as a member of the Committee, your membership term will expire on December 31 of the third full year after the effective date of your appointment. The Secretary may require an individual to have passed an appropriate security background examination before appointment to the Committee, 46 U.S.C. 15109(f)(4).

In this re-solicitation for Committee member, we will consider applications for one position representing entities engaged in offshore oil exploration and production on the Outer Continental Shelf adjacent to Alaska. The member who fills the position will be appointed to represent the interest as described above.

If you are appointed as a member of the Committee, you will be required to sign a Non-Disclosure Agreement and a Gratuitous Service Agreement.

In order for the Department, to fully leverage broad-ranging experience and education, the National Offshore Safety Advisory Committee must be diverse with regard to professional and technical expertise. The Department is committed to pursuing opportunities, consistent with applicable law, to compose a committee that reflects the diversity of the Nation's people.

If you are interested in applying to become a member of the Committee, email your complete application to Justin.P.Goff@uscg.mil as provided in the ADDRESSES section of this notice.

The U.S. Coast Guard will not consider incomplete or late applications.

Privacy Act Statement

Purpose: To obtain qualified applicants to fill one vacancy on the National Offshore Safety Advisory Committee. When you apply for appointment to the DHS' National Offshore Safety Advisory Committee, DHS collects your name, contact information, and any other personal information that you submit in conjunction with your application. DHS will use this information to evaluate your candidacy for Committee membership. If you are chosen to serve as a Committee member, your name will appear in publicly available Committee documents, membership lists, and Committee reports.

Authorities: 14 U.S.C. 504; 46 U.S.C. 15106 and 15109; and 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57639, October 3, 2008).

Consequences of Failure to Provide Information: Furnishing this information is voluntary. However, failure to furnish the requested information may result in your application not being considered for the Committee.

Dated: January 14, 2025.
Jeffrey G. Lantz,
Director of Commercial Regulations and Standards.

[FR Doc. 2025-01148 Filed 1-16-25; 8:45 am]

BILLING CODE 9110-04-P